ENVIRONMENTAL PROTECTION AGENCY

40 CFR Part 52

[EPA-R09-OAR-2020-0096; FRL-10015-36-Region 9]

Partial Approval and Partial Disapproval of Air Quality State Implementation Plans; California; Infrastructure Requirements for Ozone

AGENCY: Environmental Protection Agency (EPA).

ACTION: Final rule.

SUMMARY: The Environmental Protection Agency (EPA) is taking final action to partially approve and partially disapprove the state implementation plan (SIP) revisions submitted by the State of California pursuant to the requirements of the Clean Air Act (CAA or “Act”) for the implementation, maintenance, and enforcement of the 2015 national ambient air quality standards (NAAQS or “standards”) for ozone. Specifically, the EPA is approving the SIP revision for all elements except those that relate to prevention of significant deterioration (PSD). EPA is partially approving and partially disapproving three elements of the SIP revision due to PSD deficiencies in certain air pollution control or air quality management districts (APCD, AQMD, or “district”). The disapprovals will not create any new consequences for these districts or the EPA as the districts are already subject to the EPA's federal PSD program at 40 CFR 52.21. As part of this action, we are also reclassifying certain regions of the State for emergency episode planning purposes with respect to ozone. We are also approving into the SIP two updated state provisions addressing CAA conflict of interest requirements for the entire state, and emergency episode plans for the Amador County APCD, Calaveras County APCD, Mariposa County APCD, Northern Sierra AQMD, and Tuolumne County APCD. Finally, we are approving an exemption from emergency episode planning requirements for ozone for the Lake County AQMD.

DATES: This rule is effective April 29, 2021.

ADDRESSES: The EPA has established a docket for this action under Docket ID No. EPA-R09-OAR-2020-0096. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Panah Stauffer, Air Planning Office (AIR-2), EPA Region IX, 75 Hawthorne Street, San Francisco, CA 94105, (415) 972-3247, or by email at stauffer.panah@epa.gov.

SUPPLEMENTARY INFORMATION: Throughout this document, “we,” “us,” and “our” refer to the EPA.

Table of Contents

I. Background

A. Statutory Requirements

B. NAAQS Addressed by This Final Rule

C. California's Submittals

D. EPA's Proposal

II. Public Comments and EPA Responses

III. Final Action

A. Partial Approvals and Partial Disapprovals

B. Approval of Updated California Code of Regulations Provisions

C. Approval of Reclassification Requests for Emergency Episode Planning

D. Approval of Emergency Episode Contingency Plans

IV. Incorporation by Reference

V. Statutory and Executive Order Reviews

I. Background

A. Statutory Requirements

Section 110(a)(1) of the CAA requires each state to submit to the EPA, within three years after the promulgation of a primary or secondary NAAQS or any revision thereof, a SIP revision that provides for the implementation, maintenance, and enforcement of such NAAQS.

Section 110(a)(2) of the CAA contains the infrastructure SIP requirements, which generally relate to the information, authorities, compliance assurances, procedural requirements, and control measures that constitute the “infrastructure” of a state's air quality management program. These infrastructure SIP requirements (or “elements”) required by section 110(a)(2) are as follows:

• Section 110(a)(2)(A): Emission limits and other control measures.

• Section 110(a)(2)(B): Ambient air quality monitoring/data system.

• Section 110(a)(2)(C): Program for enforcement of control measures and regulation of new and modified stationary sources.

• Section 110(a)(2)(D)(i): Interstate pollution transport.

• Section 110(a)(2)(D)(ii): Interstate pollution abatement and international air pollution.

• Section 110(a)(2)(E): Adequate resources and authority, conflict of interest, and oversight of local and regional government agencies.

• Section 110(a)(2)(F): Stationary source monitoring and reporting.

• Section 110(a)(2)(G): Emergency episodes.

• Section 110(a)(2)(H): SIP revisions.

• Section 110(a)(2)(J): Consultation with government officials, public notification, prevention of significant deterioration (PSD), and visibility protection.

• Section 110(a)(2)(K): Air quality modeling and submittal of modeling data.

• Section 110(a)(2)(L): Permitting fees.

• Section 110(a)(2)(M): Consultation/participation by affected local entities.

Two elements identified in section 110(a)(2) are not governed by the three-year submittal deadline of section 110(a)(1) and are therefore not addressed in this action. These two elements are: (i) Section 110(a)(2)(C) to the extent it refers to permit programs required under part D (nonattainment new source review (NSR)), and (ii) section 110(a)(2)(I), pertaining to the nonattainment planning requirements of part D. As a result, this action does not address requirements for the nonattainment NSR portion of section 110(a)(2)(C) or the whole of section 110(a)(2)(I).

B. NAAQS Addressed by This Final Rule

Ground-level ozone pollution is formed from the reaction of volatile organic compounds and oxides of nitrogen (NOX) in the presence of sunlight. These two pollutants, referred to as ozone precursors, are emitted by many types of sources, including on-and off-road motor vehicles and engines, power plants and industrial facilities, and smaller area sources such as lawn and garden equipment and paints. Scientific evidence indicates that adverse public health effects occur following exposure to elevated levels of ozone, particularly in children and adults with lung disease. Breathing air containing ozone can reduce lung function and inflame airways, which can increase respiratory symptoms and aggravate asthma or other lung diseases.

On October 26, 2015, the EPA promulgated a revised NAAQS for ozone.¹ The EPA had previously promulgated NAAQS for ozone in 1979, 1997 and 2008. The 2015 ozone NAAQS revised the level of the standards to 0.070 parts per million (ppm) averaged across eight hours.

¹ 80 FR 65292.

C. California's Submittals

In California, the California Air Resources Board (CARB or “State”) is the state agency responsible for the adoption of California SIPs and SIP revisions and submission to the EPA. CARB submitted its infrastructure SIP revision (“2018 Infrastructure SIP” or “California's 2018 Submittal”) for the 2015 ozone NAAQS on October 1, 2018.²

² Letter dated October 1, 2018, from Richard W. Corey, Executive Officer, CARB, to Michael Stoker, Regional Administrator, EPA Region IX.

On June 25, 2020, CARB supplemented its 2018 Infrastructure SIP by submitting ozone emergency episode contingency plans for San Luis Obispo County APCD, Amador County APCD, Calaveras County APCD, Mariposa County APCD, Northern Sierra AQMD, and Tuolumne County APCD.³ It also submitted an exemption request from emergency episode planning requirements for Lake County AQMD based on that District's attainment status. This submittal (“California's 2020 Submittal”) addresses CAA section 110(a)(2)(G) requirements for the 2015 ozone NAAQS.

³ Letter dated June 16, 2020, from Richard W. Corey, Executive Officer, CARB, to John Busterud, Regional Administrator, EPA Region IX, with Ozone Emergency Episode Plans for Amador County, San Luis Obispo County, Northern Sierra, Tuolumne County, Mariposa County, and Calaveras County and Exemption Request for Lake County.

We refer to these submittals collectively herein as “California's Infrastructure SIP Submittals.”

D. EPA's Proposal

On October 16, 2020, we proposed to partially approve and partially disapprove California's Infrastructure SIP Submittals.⁴ Specifically, we proposed to approve the submittals for the requirements of CAA sections 110(a)(2)(A), 110(a)(2)(B), 110(a)(2)(E), 110(a)(2)(F), 110(a)(2)(G), 110(a)(2)(H), 110(a)(2)(K), 110(a)(2)(L), and 110(a)(2)(M). We also proposed to partially approve and partially disapprove the submittal for CAA sections 110(a)(2)(C), 110(a)(2)(D), and 110(a)(2)(J) due to PSD program deficiencies in certain air districts. These partial disapprovals will not create any new consequences for these districts or the EPA as the districts are already subject to the EPA's federal PSD program at 40 CFR 52.21. They will also not create any new highway sanctions, which are not triggered by disapprovals of infrastructure SIPs. Today's rule finalizes the October 16, 2020 proposal in its entirety.

⁴ 85 FR 65755.

At this time, the EPA is not acting on the interstate transport requirements of 110(a)(2)(D)(i)(I), which prohibit emission sources from contributing significantly to nonattainment, or interfering with maintenance, of the NAAQS in another state. The EPA will propose action on the interstate transport requirements for the 2015 ozone NAAQS in a separate rulemaking.

II. Public Comments and EPA Responses

The EPA's proposed action provided a 30-day public comment period that ended on November 16, 2020. During this period, the EPA received one comment from an anonymous commenter.⁵ The comment is not relevant to the EPA's action.

⁵ The comment letter is available in the docket for this rulemaking.

III. Final Action

A. Partial Approvals and Partial Disapprovals

Under CAA section 110(a), we are partially approving and partially disapproving California's Infrastructure SIP submittals for the 2015 ozone NAAQS. Specifically, we are approving the submittal for the requirements of CAA sections 110(a)(2)(A), 110(a)(2)(B), 110(a)(2)(E), 110(a)(2)(F), 110(a)(2)(G),s 110(a)(2)(H), 110(a)(2)(K), 110(a)(2)(L), and 110(a)(2)(M). We are also partially approving and partially disapproving the submittal for CAA sections 110(a)(2)(C), 110(a)(2)(D), and 110(a)(2)(J) due to PSD program deficiencies in Amador, Antelope Valley, Calaveras, Colusa, El Dorado, Glenn, Lake, Lassen, Mariposa, Mendocino, Modoc, Mojave Desert, North Coast, Northern Sierra, Northern Sonoma, Sacramento Metro, San Diego, Shasta, Siskiyou, South Coast, Tehama, and Tuolumne air districts. These partial disapprovals will not create any new consequences as the air districts with PSD deficiencies are already subject to PSD federal implementation plans (FIPs).

At this time, EPA is not acting on the interstate transport requirements of 110(a)(2)(D)(i)(I), which prohibit emission sources from contributing significantly to nonattainment, or interfering with maintenance, of the NAAQS in another state. The EPA will propose action on the interstate transport requirements for the 2015 ozone NAAQS in a separate rulemaking.

B. Approval of Updated California Code of Regulations Provisions

California's Infrastructure SIP Submittals included an updated version of the California Code of Regulations (CCR), Title 2, section 18700, which maintains the key provisions of that section and also incorporates language in CCR, Title 2, section 18701 that the EPA previously approved into the SIP to meet the conflict of interest requirements of CAA sections 110(a)(2)(E)(ii) and 128. It also included an updated version of CCR, Title 2, section 18701. We proposed to approve the updated versions of CCR, Title 2, sections 18700 and 18701 into the SIP in our October 16, 2020 rulemaking. These updated provisions continue to meet the conflict of interest requirements of CAA sections 110(a)(2)(E)(ii) and 128. We are finalizing approval, as proposed, of these updated provisions with this action.

C. Approval of Reclassification Requests for Emergency Episode Planning

In its 2018 submittal, CARB requested that the EPA reclassify three air quality control regions (AQCRs) with respect to the emergency episode planning requirements of CAA section 110(a)(2)(G) and 40 CFR part 51, subpart H, as applicable to ozone.⁶ The air quality tests for classifying AQCRs are prescribed in 40 CFR 51.150 and are pollutant-specific (e.g., ozone) rather than being specific to any given NAAQS (e.g., 1997 ozone NAAQS). Consistent with the provisions of 40 CFR 51.153, reclassification of AQCRs must rely on the most recent three years of air quality data. For ozone, an AQCR with a 1-hour ozone level greater than 0.10 ppm over the most recent three-year period must be classified Priority I, while all other areas are classified Priority III. AQCRs that are classified Priority I are required to have SIP-approved emergency episode contingency plans, while those classified Priority III are not required to have such plans, pursuant to 40 CFR 51.151 and 51.152. We interpret 40 CFR 51.153 as establishing the means for states to review air quality data and request a higher or lower classification for any given region and as providing the regulatory basis for the EPA to reclassify such regions, as appropriate, under CAA sections 110(a)(2)(G) and 301(a)(1).

⁶ In our proposed rulemaking, we inadvertently stated that CARB requested to re-classify the AQCRs for NO2 and SO2. CARB did not make such a request in either of its submittals for the 2015 ozone NAAQS and we did not propose to re-classify the AQCRs for those NAAQS in our proposal. See 85 FR 65755, 65773 (October 16, 2020).

On the basis of California's ambient air quality data for 2015-2017, we are finalizing approval, as proposed, of California's request to reclassify Lake County, North Central Coast, and South Central Coast to Priority I areas for ozone.

D. Approval of Emergency Episode Contingency Plans

To meet the requirements of CAA 110(a)(2)(G), California's 2020 Submittal included the ozone emergency episode contingency plans for Amador County APCD, San Luis Obispo County APCD, Northern Sierra AQMD, Tuolumne County APCD, Mariposa County APCD, and Calaveras County APCD, as well as the exemption request for Lake County AQMD based on its attainment status. The contingency plans meet the requirements of 40 CFR 51.152(a) to specify two or more stages of episode criteria, provide for public announcement whenever any episode stage has been determined to exist, and to specify adequate emission control actions to be taken at each episode stage. The emergency episode contingency plans also meet the requirements of 40 CFR 51.152(b) to provide for prompt acquisition of forecasts of atmospheric stagnation conditions, to provide for inspection of sources to ascertain compliance with applicable emission control action requirements, and provide for communications procedures for transmitting status reports and orders as to emission control actions to be taken during an episode stage. We are finalizing approval, as proposed, of these emergency episode contingency plans into the California SIP.

Because of Lake County's attainment status for ozone, it meets the criteria of 40 CFR 51.152(d)(1) that permits the Administrator to exempt those portions of Priority I regions that have been designated as attainment under section 107 of the CAA. The mix of ozone precursor sources in Lake County, as well as the historical 1-hour ozone levels below 0.10 ppm make it unlikely that additional measures are needed to keep ozone pollution below the significant harm level of 0.6 ppm. We are finalizing approval, as proposed, of the request to exempt the Lake County AQMD from emergency episode contingency planning requirements of 40 CFR 51.152.

IV. Incorporation by Reference

In this rule, the EPA is finalizing regulatory text that includes incorporation by reference as described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves, or conditionally approves, state plans as meeting federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide the EPA with the discretionary authority to address, as appropriate, disproportionate human health or environmental effects, using practical and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 1, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Ammonia, Incorporation by reference, Intergovernmental relations, Nitrogen dioxide, Particulate matter, Reporting and recordkeeping requirements, Sulfur dioxide, Volatile organic compounds.

Authority: 42 U.S.C. 7401 et seq.

Dated: March 18, 2021.
Deborah Jordan,
Acting Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(551) and (c)(552) to read as follows:

§ 52.220 Identification of plan—in part.

* * * * *

(c) * * *

(551) The following plan was submitted on October 1, 2018, by the Governor's designee.

(i) [Reserved]

(ii) Additional materials.

(A) California Air Resources Board.

(1) California Infrastructure SIP Revision for the 0.070 parts per million Federal 8-Hour Ozone Standard, release date September 27, 2018, excluding Attachments 1, 3, and 4.

(2) [Reserved]

(B) [Reserved]

(552) The following plans were submitted on June 25, 2020, by the Governor's designee as an attachment to a letter dated June 16, 2020.

(i) Incorporation by reference. (A) Amador Air District.

(1) “Ozone Emergency Episode Plan,” dated August 26, 2019 and adopted, as Resolution No. 19-06, on October 15, 2019.

(2) [Reserved]

(B) San Luis Obispo County Air Pollution Control District.

(1) “San Luis Obispo County Ozone Emergency Episode Plan,” adopted, as Resolution No. 2020-1, on January 22, 2020.

(2) [Reserved]

(C) Northern Sierra Air Quality Management District.

(1) “Ozone Emergency Episode Plan,” adopted, as Resolution #2020-01, on February 24, 2020.

(2) [Reserved]

(D) Tuolumne County Air Pollution Control District.

(1) “Ozone Emergency Episode Plan,” adopted, as Resolution No. 32-20, on April 7, 2020.

(2) [Reserved]

(E) Mariposa County Air Pollution Control District.

(1) “Final Ozone Emergency Episode Plan,” dated February 21, 2020 and adopted, as Resolution No. 1APCD-2020-4, on April 7, 2020.

(2) [Reserved]

(F) Calaveras County Air Pollution Control District.

(1) “Ozone Emergency Episode Plan,” dated December 2019 and adopted, as Resolution No. 20200526r056, on May 26, 2020.

(2) [Reserved]

(ii) Additional materials. (A) Lake County Air Quality Management District.

(1) “Request for Exemption of the Ozone Emergency Episode Plan,” adopted on April 7, 2020.

(2) [Reserved]

(B) [Reserved]

* * * * *

3. In § 52.220a amend table 1 in paragraph (c) by revising the entries for “18700” and “18701” to read as follows:

§ 52.220a Identification of plan—in part.

* * * * *

(c) * * *

Table 1—EPA-Approved Statutes and State Regulations ¹
State citation | Title/subject | State effective date | EPA approval date | Additional explanation
* * * * * * *
18700 | Basic rule and guide to conflict of interest regulations | 12/31/2016 | [INSERT Federal Register CITATION], 3/30/2021 | Filed on December 17, 1976, effective upon filing, and last amendment filed on December 1, 2016, operative December 31, 2016. Previously approved on 4/1/2016, 81 FR 18766.
18701 | Determining Whether a Financial Effect Is Reasonably Foreseeable | 7/10/2015 | [INSERT Federal Register CITATION], 3/30/2021 | Filed on January 22, 1976, effective February 21, 1976, and last amendment filed on July 10, 2015, operative July 10, 2015. Previously approved on 4/1/2016, 81 FR 18766.
* * * * * * *
¹ Table 1 lists EPA-approved California statutes and regulations incorporated by reference in the applicable SIP. Table 2 of paragraph (c) lists approved California test procedures, test methods and specifications that are cited in certain regulations listed in Table 1. Approved California statutes that are nonregulatory or quasi-regulatory are listed in paragraph (e).

* * * * *

4. Section 52.221 is revised to read as follows:

§ 52.221 Classification of regions.

The California plan was evaluated on the basis of the following classifications:

Table 1 to § 52.221
Air quality control region | Pollutant: Particulate matter | Pollutant: Sulfur oxides | Pollutant: Nitrogen dioxide | Pollutant: Carbon monoxide | Pollutant: Photochemical oxidants (hydrocarbons)
Great Basin Valley Intrastate | I | III | III | III | III
Lake County Intrastate | II | III | III | III | I
Lake Tahoe Intrastate | II | III | III | I | III
Metropolitan Los Angeles Intrastate | I | III | III | I | I
Mountain Counties Intrastate | II | III | III | I | I
North Central Coast Intrastate | II | III | III | III | I
North Coast Intrastate | II | III | III | III | III
Northeast Plateau Intrastate | III | III | III | III | III
Sacramento Valley Intrastate | II | III | III | I | I
San Diego Intrastate | II | III | III | I | I
San Francisco Bay Area Intrastate | II | III | III | I | I
San Joaquin Valley Intrastate | II | III | III | I | I
South Central Coast Intrastate | III | III | III | III | I
Southeast Desert Intrastate | I | III | III | III | I

5. Section 52.223 is amended by adding paragraph (p) to read as follows:

§ 52.223 Approval status.

* * * * *

(p) 2015 ozone NAAQS: The 2018 Infrastructure SIP, submitted on October 1, 2018, is partially disapproved for specific requirements of Clean Air Act section 110(a)(2) for the 2015 8-hour ozone NAAQS for the air pollution control districts (APCDs), air quality management districts (AQMDs), or air quality control regions (AQCRs) listed in this paragraph.

(1) Mendocino County AQMD (for sources subject to a FIP, including cogeneration and resource recovery projects, projects with stack heights greater than 65 meters or that use “dispersion techniques” as defined in 51.100 (which are major sources or major modifications under 52.21), and sources for which the EPA has issued permits under 52.21 for which applications were received by July 31, 1985, only) for sections 110(a)(2)(C), (D)(i)(II) (interfere with measures in any other state to prevent significant deterioration of air quality, only), and (J).

(2) North Coast Unified AQMD (PSD requirements for the regulation of PM2.5, PM2.5 precursors, condensable PM2.5, PM2.5 increments, and NOX as an ozone precursor, only) for sections 110(a)(2)(C), (D)(i)(II) (interfere with measures in any other state to prevent significant deterioration of air quality, only), and (J).

(3) Northern Sonoma County APCD (for sources subject to a FIP, including cogeneration and resource recovery projects, projects with stack heights greater than 65 meters or that use “dispersion techniques” as defined in 51.100 (which are major sources or major modifications under 52.21), and sources for which the EPA has issued permits under 52.21 for which applications were received by July 31, 1985, only) for sections 110(a)(2)(C), (D)(i)(II) (interfere with measures in any other state to prevent significant deterioration of air quality, only), and (J).

(4) Sacramento Metro AQMD (for sources subject to a FIP, including cogeneration and resource recovery projects, projects with stack heights greater than 65 meters or that use “dispersion techniques” as defined in 51.100 (which are major sources or major modifications under 52.21), and sources for which the EPA has issued permits under 52.21 for which applications were received by July 31, 1985, only) for sections 110(a)(2)(C), (D)(i)(II) (interfere with measures in any other state to prevent significant deterioration of air quality, only), and (J).

(5) All areas in California that are subject to the federal PSD program as provided in 40 CFR 52.270 for sections 110(a)(2)(C), (D)(i)(II) (interfere with measures in any other state to prevent significant deterioration of air quality, only), and (J), except for South Coast AQMD where the federal PSD program applies to all pollutants except greenhouse gases.

(6) All areas in California that are subject to the federal PSD program as provided in 40 CFR 52.270 for sections 110(a)(2)(D)(ii) (with respect to section 126(a), only).

* * * * *

[FR Doc. 2021-06110 Filed 3-29-21; 8:45 am]

BILLING CODE 6560-50-P